DEPARTMENT OF TRANSPORTATION

Federal Railroad Administration

49 CFR Part 230

[Docket No. FRA-2025-0097]

RIN 2130-AD29

Administrative Updates to the Steam Locomotive Inspection and Maintenance Standards Regulations

AGENCY: Federal Railroad Administration (FRA), U.S. Department of Transportation (DOT).

ACTION: Final rule.

SUMMARY: This rule makes administrative updates to FRA's steam locomotive inspection and maintenance standards regulations, including updating addresses in those regulations.

DATES: Effective July 1, 2025.

FOR FURTHER INFORMATION CONTACT: Veronica Chittim, Senior Attorney, Office of Safety Law, Office of the Chief Counsel, FRA, 1200 New Jersey Avenue SE, Washington, DC 20590 (telephone 202-480-3410), veronica.chittim@dot.gov; or Lucinda Henriksen, Senior Advisor, Office of Railroad Safety, FRA (telephone 202-657-2842), lucinda.henriksen@dot.gov.

SUPPLEMENTARY INFORMATION:

I. Background

Consistent with the deregulatory agenda of President Donald J. Trump and Secretary of Transportation Sean P. Duffy, which seeks to unleash America's economic prosperity without compromising transportation safety, and as described in more detail below, this rule is making miscellaneous, administrative updates to its regulations in 49 CFR part 230. These changes include updating addresses that are no longer valid.

II. Section-by-Section Analysis

Part 230

§ 230.14 Thirty-One (31) Service Day Inspection

FRA is amending § 230.14(b) by replacing references to “Regional Administrator” with “FRA Motive Power and Equipment Division Staff Director” or “Staff Director.” These amendments are being made to ensure information gets to the agency subject matter expert in the specific discipline.

FRA is also amending the first sentence of § 230.14(c) by replacing a reference to “FRA Regional Administrator for that region” with “FRA Motive Power and Equipment Division Staff Director.”

§ 230.15 Ninety-Two (92) Service Day Inspection

FRA is amending the first sentence of § 230.15(b) by replacing a reference to “FRA Regional Administrator for that region” with “FRA Motive Power and Equipment Division Staff Director.”

§ 230.16 Annual Inspection

FRA is amending § 230.16(b) by replacing references to “Regional Administrator” with “FRA Motive Power and Equipment Division Staff Director” or “Staff Director.”

FRA is also amending § 230.16(c) by replacing a reference to “FRA Regional Administrator for that region” with “FRA Motive Power and Equipment Division Staff Director.”

§ 230.17 One Thousand Four Hundred Seventy-Two (1472) Service Day Inspection

FRA is amending § 230.17(b) by replacing a reference to “FRA Regional Administrator for that region” with “FRA Motive Power and Equipment Division Staff Director.”

§ 230.18 Service Days

FRA is amending § 230.18(b) by replacing a reference to the “Regional Administrator” with “FRA Motive Power and Equipment Division Staff Director.”

§ 230.20 Alteration and Repair Report for Steam Locomotive Boilers

FRA is amending § 230.20(a) and (b) by replacing references to “Regional Administrator” with “FRA Motive Power and Equipment Division Staff Director.”

§ 230.33 Welded Repairs and Alterations

FRA is amending § 230.33(a), (c), and (d) by replacing references to “Regional Administrator” with “FRA Motive Power and Equipment Division Staff Director.”

§ 230.34 Riveted Repairs and Alterations

FRA is amending § 230.34(a) by replacing a reference to “Regional Administrator” with “FRA Motive Power and Equipment Division Staff Director.”

§ 230.96 Main, Side, and Valve Motion Rods

FRA is amending § 230.96(b) by replacing a reference to “Regional Administrator” with “FRA Motive Power and Equipment Division Staff Director.”

III. Public Participation

Under the Administrative Procedure Act (APA), an agency may waive the normal notice and comment procedures if the action is a rule of agency organization, procedure, or practice. 5 U.S.C. 553(b)(A). Additionally, under the APA, an agency may waive notice and comment procedures when the agency for good cause finds that notice and public procedure are impracticable, unnecessary, or contrary to the public interest. 5 U.S.C. 553(b)(B). Since this final rule merely makes miscellaneous, administrative updates to the CFR, such as updating web addresses, it would not benefit from public comment, and notice and comment is not necessary.

IV. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

Because this final rule makes administrative changes such as updating references, this final rule imparts no additional burdens on regulated entities. Moreover, this rule will provide some qualitative benefits to regulated entities and the U.S. government, by clarifying the language of part 230 and directing the regulated entities to the appropriate agency subject matter expert in the specific discipline.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, March 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This final rule is expected to have total costs less than zero, and therefore it would be considered an E.O. 14192 deregulatory action.

C. Regulatory Flexibility Act and E.O. 13272

The Regulatory Flexibility Act of 1980 ((RFA), 5 U.S.C. 601 et seq.) and E.O. 13272 (67 FR 53461, Aug. 16, 2002) require an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

This rule offers regulatory flexibilities, and it contains no new information collection requirements under the Paperwork Reduction Act of 1995 (44 U.S.C. 3501-3520), therefore, a submission to the Office of Management and Budget (OMB) is not required. The recordkeeping and reporting requirements already contained in part 230 became effective when they were approved by OMB on January 06, 2025. The OMB Control No. is 2130-0505 and the expiration date is January 31, 2028.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use (66 FR 28355, May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this final rule in accordance with the principles and criteria contained in E.O. 13175, Consultation and Coordination with Indian Tribal Governments, (Nov. 6, 2000). The final rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 prohibits Federal agencies from engaging in any standards or related activities that create unnecessary obstacles to the foreign commerce of the U.S. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the U.S.

List of Subjects in 49 CFR Part 230

Penalties, Railroad safety, Reporting and recordkeeping requirements.

The Final Rule

In consideration of the foregoing, FRA amends part 230 of chapter II, subtitle B of title 49, Code of Federal Regulations as follows:

PART 230—STEAM LOCOMOTIVE INSPECTION AND MAINTENANCE STANDARDS

1. The authority citation for part 230 continues to read as follows:

Authority: 49 U.S.C. 20103, 20107, 20702; 28 U.S.C. 2461 note; and 49 CFR 1.89.

2. In § 230.14, revise paragraph (b) and the first sentence in paragraph (c) to read as follows:

§ 230.14 Thirty-one (31) service day inspection.

* * * * *

(b) FRA notification. The FRA Motive Power and Equipment Division Staff Director or the Staff Director's delegate(s) may require a steam locomotive owner or operator to provide FRA with timely notification before performing a 31 service day inspection. If the FRA Motive Power and Equipment Division Staff Director or the Staff Director's delegate indicates their desire to be present for the 31 service day inspection, the steam locomotive owner and/or operator shall provide them a scheduled date and location for inspection. Once scheduled, the inspection must be performed at the time and place specified, unless the Staff Director and the steam locomotive owner and/or operator mutually agree to reschedule. If the Staff Director requests the inspection be performed on another date but the steam locomotive owner and/or operator and the Staff Director are unable to agree on a date for rescheduling, the inspection may be performed as scheduled.

(c) Filing inspection reports. Within 10 days of conducting the 31 service day inspection, the steam locomotive owner and/or operator shall file, for each steam locomotive inspected, a report of inspection (FRA Form No. 1), in the place where the steam locomotive is maintained and with the FRA Motive Power and Equipment Division Staff Director. * * *

3. In § 230.15, revise paragraph (b) to read as follows:

§ 230.15 Ninety-two (92) service day inspection.

* * * * *

(b) Filing inspection reports. Within 10 days of conducting the 92 service day inspection, the steam locomotive owner and/or operator shall file, for each steam locomotive inspected, a report of inspection (FRA Form No. 1), in the place the locomotive is maintained and with the FRA Motive Power and Equipment Division Staff Director.

* * * * *

4. In § 230.16, revise paragraphs (b) and (c) to read as follows:

§ 230.16 Annual inspection.

* * * * *

(b) FRA notification. The FRA Motive Power and Equipment Division Staff Director shall be provided written notice at least one month prior to an annual inspection and shall be afforded an opportunity to be present. If the Staff Director or the Director's delegate indicates a desire to be present, the steam locomotive owner and/or operator will provide a scheduled date and location for the inspection. Once scheduled, the inspection must be performed at the time and place specified, unless the Staff Director and the steam locomotive owner and/or operator mutually agree to reschedule. If the Staff Director requests the inspection be performed on another date but the steam locomotive owner and/or operator and the Staff Director are unable to agree on a date for rescheduling, the inspection may be performed as scheduled.

(c) Filing inspection reports. Within 10 days of completing the annual inspection, the steam locomotive owner and/or operator shall file, for each steam locomotive inspected, a report of inspection (FRA Form No. 3), in the place where the steam locomotive is maintained and with the FRA Motive Power and Equipment Division Staff Director. (See appendix A of this part.)

5. In § 230.17, revise paragraph (b) to read as follows:

§ 230.17 One thousand four hundred seventy-two (1472) service day inspection.

* * * * *

(b) Filing inspection reports. Within 30 days of completing the 1472 service day inspection, the steam locomotive owner and/or operator shall, for each steam locomotive inspected, file in the place where the steam locomotive is maintained and with the FRA Motive Power and Equipment Division Staff Director a report of inspection (FRA Form No. 3), and a completed FRA Form No. 4. (See appendix C of this part.)

6. In § 230.18, revise paragraph (b) to read as follows:

§ 230.18 Service days.

* * * * *

(b) Service day report. By the 31st of every January, every steam locomotive owner and/or operator shall file a service day report, FRA Form No. 5, with the FRA Motive Power and Equipment Division Staff Director accounting for the days the steam locomotive was in service from January 1 through December 31st of the preceding year. If the steam locomotive was in service zero (0) days during that period, a report must still be filed to prevent the steam locomotive from being considered retired by FRA. (See appendix B of this part.)

* * * * *

7. In § 230.20, revise paragraphs (a) and (b) to read as follows:

§ 230.20 Alteration and repair report for steam locomotive boilers.

(a) Alterations. When an alteration is made to a steam locomotive boiler, the steam locomotive owner and/or operator shall file an alteration report (FRA Form No. 19), detailing the changes to the locomotive with the FRA Motive Power and Equipment Division Staff Director within 30 days from the date the work was completed. This form shall be attached to, and maintained with, the FRA Form No. 4 until such time as a new FRA Form No. 4 reflecting the alteration is submitted to the FRA Motive Power and Equipment Division Staff Director. Alteration reports shall be filed and maintained for the life of the boiler. (See appendix B of this part.)

(b) Welded and riveted repairs to unstayed portions of the boiler. Whenever welded or riveted repairs are performed on unstayed portions of a steam locomotive boiler, the steam locomotive owner and/or operator shall file with the FRA Motive Power and Equipment Division Staff Director, within 30 days from the time the work was completed, a repair report, FRA Form No. 19, that details the work done to the steam locomotive. Repair reports shall be filed and maintained for the life of the boiler. (See appendix B of this part.)

* * * * *

8. In § 230.33, revise paragraphs (a), (c), and (d) to read as follows:

§ 230.33 Welded repairs and alterations.

(a) Unstayed portions of the boiler containing alloy steel or carbon steel with a carbon content over 0.25 percent. Prior to welding on unstayed portions of the boiler, the steam locomotive owner and/or operator shall submit a written request for approval to the FRA Motive Power and Equipment Division Staff Director. If the approval is granted, the steam locomotive owner and/or operator shall perform any welding to unstayed portions of the boiler in accordance with an accepted national standard for boiler repairs. The steam locomotive owner and/or operator shall satisfy reporting requirements in § 230.20 at this time.

* * * * *

(c) Wastage. The steam locomotive owner and/or operator shall submit a written request for approval to the FRA Motive Power and Equipment Division Staff Director before performing weld build up on wasted areas of unstayed surfaces of the boiler that exceed a total of 100 square inches or the smaller of 25 percent of minimum required wall thickness or ½ inch. Wasted sheets shall not be repaired by weld build up if the wasted sheet has been reduced to less than 60 percent of the minimum required thickness as required by this part.

(d) Flush patches. The steam locomotive owner and/or operator shall submit a written request for approval to the FRA Motive Power and Equipment Division Staff Director for the installation of flush patches of any size on unstayed portions of the boiler.

* * * * *

9. In § 230.34, revise paragraph (a) to read as follows:

§ 230.34 Riveted repairs and alterations.

(a) Alterations to unstayed portions of the boiler. Prior to making riveted alterations on unstayed portions of the boiler, the steam locomotive owner and/or operator shall submit a written request for approval to the FRA Motive Power and Equipment Division Staff Director. If approval is granted, the steam locomotive owner and/or operator shall perform any riveting to unstayed portions of the boiler in accordance with established railroad practices or an accepted national standard for boiler repairs. The steam locomotive owner and/or operator shall satisfy reporting requirements in § 230.20.

* * * * *

10. In § 230.96, revise paragraph (b) to read as follows:

§ 230.96 Main, side, and valve motion rods.

* * * * *

(b) Repairs. Repairs, and welding of main, side or valve motion rods shall be made in accordance with an accepted national standard. The steam locomotive owner and/or operator shall submit a written request for approval to the FRA Motive Power and Equipment Division Staff Director prior to welding defective main rods, side rods, and valve gear components.

* * * * *

Issued in Washington, DC.
Kyle D. Fields,
Chief Counsel.

[FR Doc. 2025-12145 Filed 6-27-25; 4:15 pm]

BILLING CODE 4910-06-P